DEPARTMENT OF LABOR

Employment and Training Administration

[TA-W-54,329]

Diefendorf Gear, LLC, Syracuse, NY; Certification Regarding Eligibility to Apply for Alternative Trade Adjustment Assistance

The Department adopted a new interpretation regarding the Alternative Trade Adjustment Assistance (ATAA) program in order to provide equitable access to ATAA for worker groups whose petitions were still in process at the time of implementation of the ATAA program on August 6, 2003. Under this new interpretation, worker groups covered by the certification of a petition that was in process on August 6, 2003 may request ATAA consideration for the certified worker group. In addition, certified worker groups who filed petitions after that date may also request ATAA if the petition did not include an option to apply for ATAA. The request must be made to the Department and may be made by anyone who was entitled to file the original petition under section 221(a)(1) of the Act.

By letter dated November 8, 2005, a state agency representative requested ATAA consideration for workers at the subject firm located in Syracuse, New York.

In order for the Department to issue a certification of eligibility to apply for ATAA, the group eligibility requirements of section 246(a)(3)(A) of the Trade Act must be met. The Department has determined in this case that the requirements have been met.

The investigation revealed that the subject worker group possesses skills that are not easily transferable in the local area, and that at least five percent of the workforce at the subject firm is at least fifty years of age. Industry data show that competitive conditions within the motor vehicle power train components industry are adverse.

Conclusion

After careful review of the facts obtained on investigation, I conclude that the requirements of section 246(a)(3)(A) of the Trade Act of 1974, as amended, have been met for workers at the subject firm.

In accordance with the provisions of the Act, I make the following certification:

“All workers of Diefendorf Gear, LLC, Syracuse, New York, who became totally or partially separated from employment on or after February 11, 2003 through March 2, 2006, are eligible to apply for alternative trade adjustment assistance under section 246 of the Trade Act of 1974, as amended.”

Signed in Washington, DC, this 23rd day of November 2005.
Linda G. Poole,
Certifying Officer, Division of Trade Adjustment Assistance.

[FR Doc. E5-6992 Filed 12-6-05; 8:45 am]

BILLING CODE 4510-30-P